DEPARTMENT OF LABOR

Employment and Training Administration

Investigations Regarding Eligibility To Apply for Worker Adjustment Assistance

Petitions have been filed with the Secretary of Labor under Section 221 (a) of the Trade Act of 1974 (“the Act”) and are identified in the Appendix to this notice. Upon receipt of these petitions, the Director of the Office of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than November 2, 2015.

Interested persons are invited to submit written comments regarding the subject matter of the investigations to the Director, Office of Trade Adjustment Assistance, at the address shown below, not later than November 2, 2015.

The petitions filed in this case are available for inspection at the Office of the Director, Office of Trade Adjustment Assistance, Employment and Training Administration, U.S. Department of Labor, Room N-5428, 200 Constitution Avenue NW., Washington, DC 20210.

Signed at Washington, DC this 17th day of September 2015.
Hope D. Kinglock,
Certifying Officer, Office of Trade Adjustment Assistance.

APPENDIX

97 TAA Petitions Instituted Between 8/25/15 and 9/11/15
TA-W | Subject firm (petitioners) | Location | Date of institution | Date of petition
90145 | MasterCard Worldwide (State/One-Stop) | Purchase, NY | 08/26/15 | 08/12/15
90146 | Alcoa (State/One-Stop) | Lake Charles, LA | 08/26/15 | 08/17/15
90147 | Exterran Energy Solutions LP (State/One-Stop) | Broken Arrow, OK | 08/26/15 | 08/17/15
90148 | Molycorp Minerals LLC (Company) | Mountain Pass, CA | 08/26/15 | 08/20/15
90149 | US Green Fiber (State/One-Stop) | Hagaman, NY | 08/26/15 | 08/20/15
90150 | Barnes Aerospace/Barnes Group Inc. (State/One-Stop) | Windsor, CT | 08/26/15 | 08/20/15
90151 | Sherwood Valve LLC (Union) | Washington, PA | 08/26/15 | 08/19/15
90152 | Micro Pneumatic Logic Inc. (Company) | Pompano Beach, FL | 08/26/15 | 08/19/15
90153 | Ericsson (State/One-Stop) | Overland Park, KS | 08/26/15 | 08/21/15
90154 | AVA Design (Workers) | New York, NY | 08/27/15 | 08/22/15
90155 | Donaldson Company (Workers) | Cresco, IA | 08/27/15 | 08/24/15
90156 | Boston Scientific (Company) | San Jose, CA | 08/27/15 | 08/24/15
90157 | LA Darling (State/One-Stop) | Corning, AR | 08/27/15 | 08/24/15
90158 | Steeltek Inc. (State/One-Stop) | Tulsa, OK | 08/27/15 | 08/24/15
90159 | Cyclonic Valve Company Inc. (State/One-Stop) | Broken Arrow, OK | 08/27/15 | 08/24/15
90160 | Baker Hughes (State/One-Stop) | Clinton, OK | 08/27/15 | 08/24/15
90161 | Boardman LLC (State/One-Stop) | Wichita, KS | 08/27/15 | 08/24/15
90162 | NCO Financial (State/One-Stop) | Lenexa, KS | 08/27/15 | 08/24/15
90163 | Donaldson Company, Inc. (Union) | Grinnell, IA | 08/27/15 | 08/17/15
90164 | Bayside Recycling Corporation (Workers) | Duluth, MN | 08/27/15 | 07/27/15
90165 | Retro Systems (State/One-Stop) | Valley Center, KS | 08/27/15 | 08/26/15
90166 | GE/Dresser Flow & Process Technologies (Union) | Avon, MA | 08/27/15 | 08/17/15
90167 | International Business Machines (IBM) (State/One-Stop) | Seattle, WA | 08/27/15 | 08/26/15
90168 | Transamerica Life Insurance Company (State/One-Stop) | Los Angeles, CA | 08/27/15 | 08/26/15
90169 | Bradford Supply Company (State/One-Stop) | Robinson, IL | 08/27/15 | 08/18/15
90170 | Startek (State/One-Stop) | Greenwood Village, CO | 08/27/15 | 08/13/15
90171 | Hewlett-Packard Company (State/One-Stop) | Palo Alto, CA | 08/28/15 | 08/25/15
90172 | Maxim Integrated Programs, Inc. (State/One-Stop) | Dallas, TX | 08/28/15 | 08/24/15
90173 | Diamond Power (Workers) | Lancaster, OH | 08/28/15 | 08/18/15
90174 | Hallmark Cards (State/One-Stop) | Kansas City, MO | 08/28/15 | 08/25/15
90175 | Universal Well Services (Workers) | Bradford, PA | 08/28/15 | 08/26/15
90176 | NCI (Workers) | Dallas, TX | 08/28/15 | 08/19/15
90177 | Lufkin Industries, LLC—Foundry (Workers) | Lufkin, TX | 08/28/15 | 08/14/15
90178 | Wingspan (State/One-Stop) | Monroe, LA | 08/31/15 | 08/28/15
90179 | Leedon Webbing Company Inc (State/One-Stop) | Central Falls, RI | 08/31/15 | 08/28/15
90180 | The Results Companies (State/One-Stop) | Lawrence, KS | 08/31/15 | 08/28/15
90181 | Bradken (State/One-Stop) | Atchison, KS | 08/31/15 | 08/27/15
90182 | Convergys (State/One-Stop) | Wichita, KS | 08/31/15 | 08/27/15
90183 | Milestone AV Technologies (State/One-Stop) | Wichita, KS | 08/31/15 | 08/27/15
90184 | Century Aluminum (State/One-Stop) | Hawesville, KY | 08/31/15 | 08/28/15
90185 | Orchard Brands, Blair LLC (Workers) | Warren, PA | 08/31/15 | 08/27/15
90186 | Grays Harbor Community Hospital (East Campus) (Union) | Aberdeen, WA | 08/31/15 | 08/26/15
90187 | International Paper (State/One-Stop) | Memphis, TN | 08/31/15 | 08/27/15
90188 | AXA Equitable Life Insurance Company (State/One-Stop) | Syracus, NY | 08/31/15 | 08/28/15
90189 | Runnells Specialized Hospital (Workers) | Berkeley Heights, NJ | 09/01/15 | 08/24/15
90190 | Teleflex Incorporated (Union) | Reading, PA | 09/01/15 | 08/25/15
90191 | Sun Mt Sports (Workers) | Missoula, MT | 09/01/15 | 07/03/15
90192 | Frontier Airlines (State/One-Stop) | Denver, CO | 09/01/15 | 08/27/15
90193 | Bishop Fixture & Millwork (Workers) | Balsam Lake, WI | 09/01/15 | 08/20/15
90194 | Stomaco Energy Services, Inc. (Workers) | Kilgore, TX | 09/01/15 | 08/03/15
90195 | Peel Technologies, Inc. (State/One-Stop) | Mountain View, CA | 09/01/15 | 08/27/15
90196 | Quintiles (State/One-Stop) | Overland Park, KS | 09/02/15 | 08/28/15
90197 | Legacy Measurements Solutions (State/One-Stop) | Bristow, OK | 09/02/15 | 08/31/15
90198 | Yupana Tech (Workers) | Walnut Creek, CA | 09/02/15 | 09/02/15
90199 | AIG (State/One-Stop) | Berkeley Heights, NJ | 09/03/15 | 07/15/15
90200 | Commerzbank (State/One-Stop) | New York, NY | 09/03/15 | 09/02/15
90201 | Desmi-Afti (State/One-Stop) | Orchard Park, NY | 09/03/15 | 08/24/15
90202 | Extreme Networks (State/One-Stop) | Salem, NH | 09/03/15 | 09/01/15
90203 | Fritz Enterprises Inc. (Workers) | Fairfield, AL | 09/03/15 | 09/01/15
90204 | FTS (Workers) | Chickasha, OK | 09/03/15 | 09/01/15
90205 | Lenovo (Workers) | Morrisville, NC | 09/03/15 | 09/01/15
90206 | Motorad (State/One-Stop) | Niagara Falls, NY | 09/03/15 | 08/24/15
90207 | National Oilwell Varco (State/One-Stop) | Houston, OK | 09/03/15 | 09/01/15
90208 | Noble Energy Inc. (Workers) | Ardmore, OK | 09/03/15 | 09/02/15
90209 | Primary Financial Services, LLC (State/One-Stop) | Cheektowaga, NY | 09/03/15 | 09/01/15
90210 | Uni-Select USA (State/One-Stop) | Tonawanda, NY | 09/03/15 | 09/02/15
90211 | United Health Group/Optum Healthcare (State/One-Stop) | Trumbull, CT | 09/03/15 | 09/01/15
90212 | Verso Corporation (State/One-Stop) | Jay, ME | 09/03/15 | 09/02/15
90213 | Volvo Construction Equipment North America (Company) | Chambersburg, PA | 09/03/15 | 09/02/15
90214 | Concurrent Manufacturing (State/One-Stop) | Hialeah, FL | 09/04/15 | 09/03/15
90215 | Chem Pruf Door Co Ltd (Workers) | Brownsville, TX | 09/08/15 | 09/05/15
90216 | iMedX (State/One-Stop) | Atlanta, GA | 09/08/15 | 09/04/15
90217 | Keystone Profiles Ltd (Company) | Beaver Falls, PA | 09/08/15 | 09/04/15
90218 | Legend 3D (Workers) | Carlsbad, CA | 09/08/15 | 09/05/15
90219 | Morgan Advanced Material (Union) | Coudersport, PA | 09/08/15 | 08/14/15
90220 | Nabors Completion & Production (Workers) | El Reno, OK | 09/08/15 | 09/08/15
90221 | Niagara LaSalle Corporation (State/One-Stop) | Buffalo, NY | 09/08/15 | 09/03/15
90222 | Telesource Services, LLC (Company) | Bensenville, IL | 09/08/15 | 09/04/15
90223 | Telesource Services, LLC (Company) | Poniac, MI | 09/08/15 | 09/04/15
90224 | Texas Health Care, P.L.L.C. (Company) | Fort Worth, TX | 09/08/15 | 09/03/15
90225 | TMK Ipsco Koppel Tubulars (Union) | Ambridge, PA | 09/08/15 | 09/01/15
90226 | Toyota Tsusho America, Inc. (Workers) | Farmington Hills, MI | 09/08/15 | 09/01/15
90227 | ResMed Motor Technologies (State/One-Stop) | Chatsworth, CA | 09/09/15 | 09/08/15
90228 | Allergan Medical (State/One-Stop) | Santa Maria, CA | 09/09/15 | 09/08/15
90229 | Carrier (Union) | Syracuse, NY | 09/10/15 | 09/01/15
90230 | Energizer Holding, Inc. (State/One-Stop) | Westlake, OH | 09/10/15 | 08/31/15
90231 | Express Group Holdings LLC (State/One-Stop) | Tulsa, OK | 09/10/15 | 09/09/15
90232 | IBM (State/One-Stop) | Glendale, CA | 09/10/15 | 09/09/15
90233 | Miller Welding & Machine Company (Company) | Brookville, PA | 09/10/15 | 09/04/15
90234 | Parker Hannifin Corporation (Company) | Anaheim, CA | 09/10/15 | 09/09/15
90235 | Parker Hannifin Corporation (Company) | Fontana, CA | 09/10/15 | 09/09/15
90236 | Gamma North (State/One-Stop) | Alden, NY | 09/10/15 | 08/31/15
90237 | YP LLC (Workers) | Tucker, GA | 09/11/15 | 09/10/15
90238 | BIC (State/One-Stop) | Shelton, CT | 09/11/15 | 09/08/15
90239 | PCS, Inc. (State/One-Stop) | Fremont, CA | 09/11/15 | 09/10/15
90240 | ABB, Inc. (Union) | Greensburg, PA | 09/11/15 | 09/11/15
90241 | Wood Group—PAC (State/One-Stop) | Houston, TX | 09/11/15 | 09/10/15

[FR Doc. 2015-26826 Filed 10-21-15; 8:45 am]

BILLING CODE 4510-FN-P